DEPARTMENT OF TRANSPORTATION

Office of the Secretary

Aviation Proceedings, Agreements Filed During the Week Ending February 18, 2000

The following Agreements were filed with the Department of Transportation under the provisions of 49 U.S.C. Sections 412 and 414. Answers may be filed within 21 days after the filing of the application.

Docket Number: OST-2000-6935.

Date Filed: February 14, 2000.

Parties: Members of the International Air Transport Association.

Subject:

PTC23 ME-TC3 0086 dated 15 February 2000

Mail Vote 063—TC23 Middle East-TC3

Special Passenger Amending Resolution from Thailand

Intended effective date: 1 March 2000

Dorothy W. Walker,
Federal Register Liaison.

[FR Doc. 00-4997 Filed 3-1-00; 8:45 am]

BILLING CODE 4910-62-P